DEPARTMENT OF TRANSPORTATION

Federal Aviation Administration

Agency Information Collection Activities: Requests for Comments; Clearance of a Renewed Approval of Information Collection: Helicopter Air Ambulance Operator Reports

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on November 3, 2017 (82 FR 51331).

The FAA Modernization and Reform Act of 2012 mandates that all helicopter air ambulance operators must begin reporting the number of flights and hours flown, along with other specified information, during which helicopters operated by the certificate holder are providing helicopter air ambulance services. The helicopter air ambulance operational data provided to the FAA is used by the agency as background information useful in the development of risk mitigation strategies to reduce the helicopter air ambulance accident rate, and to meet the mandates set by Congress.

In response to the November 3, 2017 notice and request for comments, the FAA received two comments. One comment from an individual and one comment from the Air Medical Operators Association (AMOA). The individual commented that the hourly burden per average response estimate has increased since the last notice was published on July 29, 2014 (79 FR 44083) and asked for the reason for the change in estimated burden. In response, the FAA clarifies that none of the requirements have changed, but operator data have changed. The overall number of operators has decreased. Additionally, the number of large operators (to which we attribute a higher hourly burden) has increased and the number of small operators (to which we attribute a lower hourly burden) has decreased. Therefore, in the aggregate, the average hourly burden increased from six (6) hours to eleven (11) hours per operator.

The AMOA commented that they strongly supported the intent of the data collection requirement, but also noted that the original collection requirement should have been the subject of notice and comment rulemaking. The FAA notes, as indicated in the August 12, 2013 Requests for Comments; Clearance of a New Approval of Information Collection: Helicopter Air Ambulance Operator Reports (78 FR 48925), that prior to issuance of the first information collection notice, representatives from the Flight Standards Service, Office of Accident Investigation and Prevention, and the Office of the Chief Counsel met with representatives from AMOA to discuss the FAA's approach to this data collection. Meetings were held on October 15, 2012 and May 17, 2013. On June 28, 2013 AMOA submitted a response to the FAA discussing its view of the method to collect the data being pursued by the FAA. A copy of that letter was placed in the docket (FAA-2013-0684) and was considered by the agency.

AMOA also commented that the FAA has underestimated the hourly burden for both large and small operators. Although AMOA did not provide any specific data to support its comment, in response the FAA has increased the estimates of hourly burden for both large and small operators in this notice and request for comments.

AMOA also requested information from the FAA's Office of Accident Investigation and Prevention and commented on the FAA's implementation of certain provisions of the FAA Modernization and Reform Act of 2012, which are both beyond the scope of this clearance of a renewed approval of information collection.

DATES: Written comments should be submitted by February 20, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0761.

Title: Helicopter Air Ambulance Operator Reports.

Form Numbers: Helicopter Air Ambulance Mandatory Flight Information Report.

Type of Review: Renewal of an information collection.

Background: The Federal Register Notice with a 60-day comment period soliciting comments on the following collection of information was published on November 3, 2017 (82 FR 51331). The FAA Modernization and Reform Act of 2012 (The Act) mandates that all helicopter air ambulance operators must begin reporting the number of flights and hours flown, along with other specified information, during which helicopters operated by the certificate holder were providing helicopter air ambulance services. See Public Law 112-95, Sec. 306, 49 U.S.C. 44731. The FAA Administrator had 180 days to develop a methodology to collect and store those data. The Act further mandates that not later than 2 years after the date of enactment, and annually thereafter, the Administrator shall submit to the Committee on Transportation and Infrastructure of the House of Representatives and the Committee on Commerce, Science, and Transportation of the Senate, a report containing a summary of the data collected.

The helicopter air ambulance operational data provided to the FAA will be used by the agency as background information useful in the development of risk mitigation strategies to reduce the helicopter air ambulance accident rate, and to meet the mandates set by Congress. The information requested is limited to the minimum necessary to fulfill these reporting requirements mandated by the Act and as developed by FAA. The amount of data required to be submitted is proportional to the size of the operation.

Respondents: 65 helicopter air ambulance certificate holders.

Frequency: The information is collected annually.

Estimated Average Burden per Response: 13.4 hours.

Estimated Total Annual Burden: 870 hours.

Issued in Fort Worth, TX, on January 8, 2018.
Barbara Hall,
FAA Information Collection Clearance Officer, IT Enterprises Business Services Division, ASP-110.

[FR Doc. 2018-00826 Filed 1-18-18; 8:45 am]

BILLING CODE 4910-13-P